DEPARTMENT OF THE INTERIOR

Bureau of Indian Affairs

[2231A2100DD/AAKC001030/A0A501010.999900]

National Tribal Broadband Grant; Solicitation of Proposals

AGENCY: Bureau of Indian Affairs, Interior.

ACTION: Notice.

SUMMARY: The Secretary of the Interior (Secretary), through the Office of Indian Economic Development (OIED), Division of Economic Development (DED), solicits proposals from eligible federally recognized Tribes for the National Tribal Broadband Grant (NTBG) to support feasibility studies for installation or expansion of high-speed internet (broadband).

DATES: Grant application packages must be submitted to Grants.gov no later than 5 p.m. ET, on October 17, 2022. OIED will not consider proposals received after this time and date.

ADDRESSES: The required method of submitting proposals is through Grants.gov. For information on how to apply for grants in Grants.gov, see the instructions available at https://www.grants.gov/help/html/help/Applicants/HowToApplyForGrants.htm. Proposals must be submitted to Grants.gov by the deadline established in the DATES section.

FOR FURTHER INFORMATION CONTACT: Mr. Dennis Wilson, Grant Management Specialist, Office of Indian Economic Development, telephone: (505) 917-3235; email: dennis.wilson@bia.gov. If you have questions regarding the application process, please contact Ms. Jo Ann Metcalfe, Grant Officer, telephone (410) 703-3390; email jo.metcalfe@bia.gov. Individuals in the United States who are deaf, deafblind, hard of hearing, or have a speech disability may dial 711 (TTY, TDD, or TeleBraille) to access telecommunications relay services. Additional Program information can be found at: https://www.bia.gov/service/grants/ntbg.

SUPPLEMENTARY INFORMATION:

I. General Information

II. Number of Projects Funded

III. Background

IV. Eligibility for Funding

V. Who May Perform Feasibility Studies Funded by NTBG Grants

VI. Applicant Procurement Procedures

VII. Limitations

VIII. NTBG Application Guidance

IX. Mandatory Components

X. Incomplete Applications

XI. Review and Selection Process

XII. Evaluation Criteria

XIII. Transfer of Funds

XIV. Reporting Requirements for Award Recipients

XV. Conflicts of Interest

XVI. Questions and Requests for OIED Assistance

XVII. Paperwork Reduction Act

XVIII. Authority

I. General Information

Award Ceiling: $175,000.

Award Floor: $100,000.

CFDA Numbers: 15.032.

Cost Sharing or Matching Requirement: No.

Number of Awards: 15-27.

Category: Business Development or Communications.

Length of Project Period: Twenty-four (24) month project period.

II. Number of Projects Funded

OIED anticipates award of approximately 15 to 27 grants under this announcement ranging in value from approximately $100,000 to $175,000. NTBG awards will remain active for a two-year period of performance. OIED will use a competitive evaluation process for awarding based on criteria described in the Review and Selection Process (Criteria) section of this notice. Only one application will be accepted from an eligible Tribe.

III. Background

The Secretary, through OIED, is soliciting proposals from federally recognized Indian Tribes listed as Indian Entities Recognized by and Eligible to Receive Services from the United States Bureau of Indian Affairs at 87 FR 4636 (January 28, 2022) for NTBG grants. Indian Tribes are referred to using the term “Tribe” throughout this notice. The grant funding is to hire consultants to perform feasibility studies for deployment or expansion of high-speed internet (broadband) transmitted, variously, through DSL, cable modem, fiber, wireless, satellite and BPL.

NTBG grants may be used to fund an assessment of the current broadband services, if any, that are available to an applicant's community; an engineering assessment of new or expanded broadband services; an estimate of the cost of building or expanding a broadband network; a determination of the transmission medium(s) that will be employed; identification of potential funding and/or financing for the network; and consideration of financial and practical risks associated with developing a broadband network.

The purpose of the NTBG is to improve the quality of life, spur economic development and commercial activity, create opportunities for self-employment, enhance educational resources and remote learning opportunities, and meet emergency and law enforcement needs by bringing broadband services to Native American communities that lack them. Feasibility studies funded through NTBG will assist Tribes to make informed decisions regarding deployment or expansion of broadband in their communities.

The funding periods and amounts referenced in this solicitation are subject to the availability of funds at the time of award, as well as the Department of the Interior (DOI) and Indian Affairs priorities at the time of the award. Neither DOI nor Indian Affairs will be held responsible for proposal or application preparation costs. Publication of this solicitation does not obligate DOI or Indian Affairs to award any specific grant or to obligate all or any part of available funds. Future funding is subject to the availability of Congressional appropriations and cannot be guaranteed. DOI or Indian Affairs may cancel or withdraw this solicitation at any time.

IV. Eligibility for Funding

The Office of the Assistant Secretary—Indian Affairs, through OIED, is soliciting proposals from federally recognized Tribes listed as Indian Entities Recognized by and Eligible to Receive Services from the United States Bureau of Indian Affairs at 87 FR 4636 (January 28, 2022).

V. Who May Perform Broadband Feasibility Studies Funded by NTBG Grants

The applicant determines who will conduct its broadband feasibility study. An applicant has several choices, including but not limited to:

a. Universities and colleges;

b. Private consulting firms; or

c. Non-academic, non-profit entities.

VI. Applicant Procurement Procedures

The applicant is subject to the procurement standards under 2 CFR 200.318 through 200.326. In accordance with 2 CFR 200.318, an applicant must use its own documented procurement procedures which reflect Tribal laws and regulations, provided that the procurements conform to applicable Federal law and standards identified in Part 2 of the Code of Federal Regulations.

VII. Limitations

NTBG grant funding must be expended in accordance with applicable Federal statutory and regulatory requirements, including 2 CFR part 200. As part of the grant application review process, OIED may conduct a review of an applicant's prior OIED grant(s). Applicants currently under BIA sanction Level 2 or higher resulting from noncompliance with the Single Audit Act are ineligible for a NTBG grants. Applicants at Sanction Level 1 will be considered for funding.

Only one application will be accepted from an eligible Tribe. Applications should address one project and any submissions that contain multiple project proposals will not be considered. OIED will apply the same objective ranking criteria to each proposal.

NTBG funding may allocated to personnel to provide project oversight and management. This individual(s) may be a full-time person (FTE) brought on specifically for the 2-year duration of the project, or be portion of an FTE allocation. The utilization of a project manager(s) must be demonstrated as necessary and reasonable with compensation that is commensurate to similar industry standards.

The purpose of NTBG grants is to fund broadband feasibility studies only. NTBG awards may not be used for:

• Establishing or operating a Tribal office;

• Indirect costs or administrative costs as defined by the Federal Acquisition Regulation (FAR);

• Purchase of equipment used to develop the feasibility studies, such as computers, vehicles, field gear, etc. (however, leasing of this type of equipment for the purpose of developing feasibility studies is allowed);

• Supplementing employment or income for current positions not significantly and directly involved in the proposed project (e.g., positions like Executive Directors with little to no described involvement in the proposed work);

• International travel;

• Legal fees;

• Application fees associated with permitting;

• Training;

• Contract negotiation fees;

• Feasibility studies of energy, mineral, energy legal infrastructure, or broadband related projects, businesses, or technologies that are addressed by OIED's Energy and Mineral Development Program (EMDP), Tribal Energy Development Capacity (TEDC); and

• Any other activities not authorized by the grant award letter.

VIII. TTGP Application Guidance

All applications are required to be submitted in digital form to grants.gov. For instructions, see https://www.grants.gov/help/html/help/Applicants/HowToApplyForGrants.htm.

IX. Mandatory Components

The mandatory components, and forms identified below, must be included in the proposal package. Links to the mandatory forms can be found under the “package” tab on the NTBG FY2022 grant opportunity page at www.grants.gov. Any information in the possession of the BIA or submitted to the BIA throughout the process, including final work product, constitutes government records and may be subject to disclosure to third parties under the Freedom of Information Act (FOIA), 5 U.S.C. 552, and the Department of the Interior's FOIA regulations at 43 CFR part 2, unless a FOIA exemption or exception applies, or other provisions of law protect the information. Following are the names of the required forms:

• Cover Page

• Application for Federal Assistance (SF-424) [V4.0]

• Cover Letter

• Project Abstract Summary [V2.0]

• Project Narrative Attachment Form [V1.2]

• Budget Information for Non-Construction Programs (SF-424A) [V1.0]

• Attachments [V1.2]

• Key Contacts [V2.0]

Cover Page

A Cover Page must be included in the application and contain the following:

• Category of Funding for the NTBG application.

• Proposal Title.

• Total Amount of funding requested from the Program.

• Full and Proper Name of the applicant organization.

• Statement confirming the proposed work will have the potential to reach the intended goals and objectives.

• Confirm active registration in SAM, attaching print-out from sam.gov to the cover page. See instructions and registration instructions in Appendix.

• Provide active enrollment in ASAP and your Recipient ID with the BIA. Allow 3-4 weeks to complete all steps of enrollment prior to submission deadline. The organization must be enrolled in ASAP with BIA, current enrollment with other Federal agencies is not sufficient. See instructions and registration instructions in Appendix.

• Confirmation of other completed Mandatory Components identified in this section (SF-424, Project Abstract Summary, etc).

• Identification of any personnel that will provide project oversight and management.

• Identification of partnerships such as Tribes, other Tribal Organizations or Entities.

Application for Federal Assistance SF-424 [V4.0]

Applicants are required to complete the Application for Federal Assistance SF-424, version 4. Please use a descriptive file name that includes tribal name and project description. For example: NTBGSF424.Tribalname.Project. The SF-424 [V4.0] form requires the Congressional District number of the applicant, which can be found at https://www.house.gov/representatives/find-your-representative.

Cover Letter

A cover letter is not to exceed one (1) page that summarizes the interest and intent, complete with authorized signature(s) of organization leadership.

Project Abstract Summary and Project Narrative Attachment

Project Narratives are not judged based on their length. Please do not submit any unnecessary attachments or documents beyond what is listed above, e.g., Tribal history, unrelated photos and maps.

The first paragraph of the project narrative must include the title and basic description of the proposed broadband feasibility study. The Project Narrative must not exceed 15 pages. Supplemental information such as letters of support, graphs, charts, maps, photographs and other graphic and/or other relevant information may be included in an appendix and not counted against the 15-page Project Narrative Limit. At a minimum, it should include:

• A technical description of the project that includes identifying any existing broadband feasibility information and, if applicable, an explanation of how the proposed new study and/or business plan would benefit the applicant and does not duplicate previous work;

• A description of the project objectives and goals, including a description of the areas in which broadband will be deployed or expanded, short and long term benefits of broadband deployment or expansion, and how the feasibility study will meet the goals of the NTBG;

• Deliverable products that the consultant is expected to generate, including interim deliverables (such as status reports and technical data to be obtained) and final deliverables (the feasibility study);

• Resume and Qualifications of any identified personnel who would be providing project oversight and management. This individual(s) may be a full-time person (FTE) brought on specifically for the 2-year duration of the project, or be a portion of an FTE allocation. The utilization of a project manager(s) must be demonstrated as necessary and reasonable with compensation that is commensurate to similar industry standards. The responsibilities of the project personnel, with sufficient qualifications to fulfill those responsibilities, must be demonstrated by the Applicant. If new staff members are to be hired, applicants should describe the recruitment and hiring process. Common challenges include, but not limited to, identification and retention of qualified staff, policies and procedures that delay hiring, etc. Applicants must describe accessibility of potential candidates and include contingency plans to describe how the project will progress until vacant positions are filled.

• Applicants must also demonstrate qualifications for key partnerships and consultants, as well as project management oversight, towards the implementation of project activities. Applicants must describe the role of the partner organization and staff, including relevant expertise and experience, as well as clear roles and responsibilities for project implementation. If formal agreements have not been established at the time of application, the applicant must describe plans to finalize any partnership agreements, including firm commitments and contingency plans for these partners. The resumes of key consultants and personnel to be retained, if available, and the names of subcontractors, if applicable, may be included as an attachment to the application and will not be counted towards the 15-page limitation.

• Please use a descriptive file name that includes Tribal name and project description. For example: NTBGNarrative.Tribalname.Project

Budget Information for Non-Construction Programs (SF-424A) [V1.0] and Budget Narrative Attachment Form [V1.2]

Applicants are required to utilize the SF-424A for the budget submission. Please use a descriptive file name that includes tribal name and project description. For example: NTBGBudget.Tribalname.Project. The budget must identify the amount of grant funding requested and a comprehensive breakdown of all projected and anticipated expenditures, including contracted personnel fees, consulting fees (hourly or fixed), travel costs, data collection and analysis costs, computer rentals, report generation, drafting, advertising costs for a proposed project and other relevant project expenses, and their subcomponents.

• Travel costs should be itemized by airfare, vehicle rental, lodging, and per diem, based on the current Federal government per diem schedule.

• Data collection and analysis costs should be itemized in sufficient detail for the OIED review committee to evaluate the charges.

• Personnel oversight management. Compensation and associated costs of personnel who will be providing management oversight will not be indirectly charged. Do not include the personnel costs of consultants or contractors under this category. For any position, provide: the name of the individual (if known), their title; time commitment to the project in months; time commitment to the project as a percentage or full-time equivalent; annual salary; grant salary; wage rates; etc. Identify the project director or principal investigator, if known at the time of application. Costs of employee fringe benefits are allowances and services provided by employers to their employees in addition to regular salaries and wages. Typically, fringe benefit amounts are determined by applying a calculated rate for a particular class of employee (full-time or part-time) to the salary and wages requested. Fringe benefits, like salary, will also be as direct cost (Health insurance, Federal Insurance Contributions Act (FICA) taxes, retirement, taxes, etc.)

• Other expenses may include computer rental, report generation, drafting, and advertising costs for a proposed project.

Attachments [V1.2]

Utilize the “attachments form” to include the Tribal resolution issued in the fiscal year of the grant application, authorizing the submission of a NTBG 2022 grant application. It must be signed by authorized Tribal representative(s). The Tribal resolution must also include a description of the feasibility study to be developed. An application submitted without a Tribal Resolution will be considered incomplete. The attachments form can also be used to include any other attachments related to the proposal.

Required Grantee Travel and Attendance at a Broadband Annual Grantee Meeting

Grantees will be required to have two individuals who work directly on the project attend an in-person annual DOI/OIED-sponsored grantee 3-day meeting in Washington, DC, during the year of the grant award. Applicants must include costs in the budget to cover this requirement. Travel costs must not exceed $6,000 per person. Applicants should follow their own travel policies to budget for this 3-day meeting. Additional funds for these expenses will not be available once grant is awarded. In the event the meeting is converted to a virtual meeting due to timing or COVID related issues, those funds may be repurposed in the grant.

Special Note

Please make sure that the System for Award Management (SAM) number used to apply is active, not expired, with a current Unique Entity Identifier (UEI) number on the SF-424. Please make sure an active Automated Standard Application for Payment (ASAP) number is provided. Applicants must have an ASAP number and be enrolled with the BIA to be eligible. Please list counties where the project is located and congressional district number where the project will be located.

Key Contacts [V2.0]

Please list the county(ies) where the project is located and congressional district number(s) where the project is located. Applicants must include the Key Contacts information page that includes:

• Please use a descriptive file name that includes tribal name and identifies it as the critical information page (CIP). For example: NTBGCIP.Tribalname.Project;

• Project Manager's contact information including address, email, desk, and cell phone number;

• Please make sure the System for Award Management (SAM) number used to apply is active, not expired, with a current UEI number on the SF-424;

• Please make sure an active Automated Standard Application for Payment (ASAP) number is provided. Applicants must have an ASAP number for the BIA to be eligible.

X. Incomplete Applications

Incomplete applications will not be accepted. Please ensure that all forms listed in the announcement are completed and submitted in grants.gov.

XI. Review and Selection Process

Upon receiving a NTBG application, OIED will determine whether the application is complete and that the proposed project does not duplicate or overlap previous or currently funded OIED technical assistance projects. Any proposal that is received after the date and time in the DATES section of this notice will not be reviewed.

The OIED Review Committee (Committee), comprised of OIED staff, staff from other Federal agencies, and subject matter experts, will evaluate the proposals against the ranking criteria. Proposals will be evaluated using the four criteria listed below, with a maximum achievable total of 100 points.

Final award selections will be approved by the Assistant Secretary—Indian Affairs and the Associate Deputy Secretary, U.S. Department of the Interior. Applicants not selected for award will be notified in writing.

XII. Evaluation Criteria

Proposals will be formally evaluated by an OIED review committee using the four criteria listed below. Each criterion provides a percentage of the total maximum rating of 100 points. NTBG applications will be ranked using only these criteria:

• Community Impact Potential: 55 points.

• Need: 20 points.

• Project Location in an Opportunity Zone: 15 points.

• Authenticity: 10 points.

Community Impact Potential

This criterion focuses on how deployment or expansion of broadband services will improve the quality of life in the applicant's community, create educational and self-employment opportunities, and benefit the applicant's residents, businesses, commercial activities, schools, libraries, and law enforcement and emergency operations.

Need

This criterion focuses on an applicant's lack of capacity to obtain a broadband feasibility study absent grant funding.

Project Location in an Opportunity Zone

Points will be awarded for projects located in an Opportunity Zone. An Opportunity Zone is an economically-distressed community where new investments, under certain conditions, may be eligible for preferential tax treatment. See 26 U.S.C. 14002-1 and 14002-2. A map and list of Opportunity Zones can be found at: https://www.cdfifund.gov/Pages/Opportunity-Zones.aspx.

Authenticity

The OIED review committee understands that applicants may intend that the consultant(s) they retain to prepare the broadband proposal will also conduct the feasibility study if the grant is awarded. This does not prejudice an applicant's chances of being selected as a grantee. However, the OIED review committee will view unfavorably proposals that show little evidence of communication between the consultant(s) and the applicant or scant regard for the applicant community's unique circumstances. Facsimile applications prepared by the same consultant(s) and submitted by multiple applicants will receive scrutiny in this regard.

XIII. Transfer of Funds

OIED's obligation under this solicitation is contingent on receipt of Congressionally appropriated funds. No liability on the part of the U.S. Government for any payment may arise until funds are made available to the awarding officer for this grant and until the recipient receives notice of such availability, to be confirmed in writing by the grant officer.

All payments under this agreement will be made by electronic funds transfer through the ASAP system. All award recipients are required to have a current and accurate UEI number to receive funds. All payments will be deposited to the banking information designated by the applicant in the SAM.

XIV. Reporting Requirements for Award Recipients

The applicant must deliver all products and data required by the signed Grant Agreement for the proposed NTBG feasibility study project to OIED within 30 days of the end of each quarter and 120 days after completion of the project. The reporting periods will be established in the terms and conditions of the final award.

OIED requires that deliverable products be provided in both digital format and submitted in the GrantSolutions system. Reports can be provided in either Microsoft Word or Adobe Acrobat PDF format. Spreadsheet data can be provided in Microsoft Excel, Microsoft Access, or Adobe PDF formats. All vector figures should be converted to PDF format. Raster images can be provided in PDF, JPEG, TIFF, or any of the Windows metafile formats. The contract between the grantee and the consultant conducting the NTBG funded feasibility study must include deliverable products and require that the products be prepared in the format described above.

The contract should include budget amounts for all printed and digital copies to be delivered in accordance with the grant agreement. In addition, the contract must specify that all products generated by a consultant belong to the grantee and cannot be released to the public without the grantee's written approval. Products include, but are not limited to, all reports and technical data obtained, maps, status reports, and the final report.

In addition, this funding opportunity and financial assistance award must adhere to the following provisions:

XV. Conflicts of Interest

Applicability

• This section intends to ensure that non-Federal entities and their employees take appropriate steps to avoid conflict-of-interest in their responsibilities under or with respect to Federal financial assistance agreements.

• In the procurement of supplies, equipment, construction, and services by recipients and by sub-recipients, the conflict-of-interest provisions in 2 CFR 200.318 apply.

Requirements

• Non-Federal entities must avoid prohibited conflicts-of-interest, including any significant financial interests that could cause a reasonable person to question the recipient's ability to provide impartial, technically sound, and objective performance under or with respect to a Federal financial assistance agreement.

• In addition to any other prohibitions that may apply with respect to conflict-of-interest, no key official of an actual or proposed recipient or sub-recipient, who is substantially involved in the proposal or project, may have been a former Federal employee who, within the last one (1) year, participated personally and substantially in the evaluation, awarding, or administration of a grant with respect to that recipient or sub-recipient or in development of the requirement leading to the funding announcement.

• No actual or prospective recipient or sub-recipient may solicit, obtain, or use non-public information regarding the evaluation, grant, administration of a grant to that recipient or sub-recipient or the development of a Federal financial assistance opportunity that may be of competitive interest to that recipient or sub-recipient.

Notification

• Non-Federal entities, including applicants for financial assistance awards, must disclose in writing any conflict of interest to the DOI awarding agency or pass-through entity in accordance with 2 CFR 200.112, Conflicts of Interest.

• Recipients must establish internal controls that include, at a minimum, procedures to identify, disclose, and mitigate or eliminate identified conflicts of interest. The recipient is responsible for notifying the Financial Assistance Officer in writing of any conflicts of interest that may arise during the life of the grant, including those that have been reported by sub-recipients.

• Restrictions on Lobbying. Non-Federal entities are strictly prohibited from using funds under this grant or cooperative agreement for lobbying activities and must provide the required certifications and disclosures pursuant to 43 CFR part 18 and 31 U.S.C. 1352.

• Review Procedures. The Financial Assistance Officer will examine each conflict-of-interest disclosure on the basis of its particular facts and the nature of the proposed grant or cooperative agreement, and will determine whether a significant potential conflict exists and, if it does, develop an appropriate means for resolving it.

• Enforcement. Failure to resolve conflicts of interest in a manner that satisfies the Government may be cause for termination of the award. Failure to make the required disclosures may result in any of the remedies described in 2 CFR 200.338, Remedies for Noncompliance, including suspension or debarment (see also 2 CFR part 180).

Data Availability

• Applicability. The Department of the Interior is committed to basing its decisions on the best available science and providing the American people with enough information to thoughtfully and substantively evaluate the data, methodology, and analysis used by the Department to inform its decisions.

• Use of Data. The regulations at 2 CFR 200.315 apply to data produced under a Federal award, including the provision that the Federal Government has the right to obtain, reproduce, publish, or otherwise use the data produced under a Federal award as well as authorize others to receive, reproduce, publish, or otherwise use such data for Federal purposes.

• Availability of Data. The recipient shall make the data produced under this award and any subaward(s) available to the Government for public release, consistent with applicable law, to allow meaningful third-party evaluation and reproduction of the following the scientific data relied upon; analysis relied upon; and methodology, including models, used to gather and analyze data.

XVI. Questions and Requests for IED Assistance

Technical consultation from OIED may include clarifying application requirements, confirming whether an applicant previously submitted the same or similar proposal, and registration information for SAM or ASAP. Technical assistance will be provided by the OIED contractor, Tribal Tech. The applicant is solely responsible for the preparation of its grant proposal. All eligible applicants will have access to scheduled training and can request assistance from the pre-application phase through the post-award close-out. It is strongly recommended that any assistance be a consolidation of items based off reasonably completed working drafts. Please complete an in-take form with Tribal Tech to request assistance: Please complete an in-take form at https://app.smartsheet.com/b/publish?EQBCT=98a8ecfd0f3d452693e589c6a0a678d8 to request assistance with Tribal Tech.

XVII. Paperwork Reduction Act

The information collection requirements contained in this notice have been reviewed and approved by the Office of Management and Budget (OMB) under the Paperwork Reduction Act, 44 U.S.C. 3504(h). The OMB control number is 4040-0004. The authorization expires on December 31, 2022. An agency may not conduct or sponsor, and you are not required to respond to, any information collection that does not display a currently valid OMB Control Number.

XVIII. Authority

This is a discretionary grant program authorized under the Snyder Act (25 U.S.C. 13), the Consolidated Appropriations Act, 2022 (HR 2471-312), and the American Rescue Plan Act of 2021 (Pub. L. 117-2). The Snyder Act authorizes the BIA to expend such moneys as Congress may appropriate for the benefit, care, and assistance of Indians for the purposes listed in the Act. Broadband deployment or expansion facilitates two of the purposes listed in the Snyder Act: “General support and civilization, including education” and “industrial assistance and advancement.” The Consolidated Appropriations Act authorizes the BIA to “carry out the operation of Indian programs by direct expenditure, contracts, cooperative agreements, compacts, and grants, either directly or in cooperation with States and other organizations.”

Bryan Newland,
Assistant Secretary—Indian Affairs.

[FR Doc. 2022-17783 Filed 8-17-22; 8:45 am]

BILLING CODE 4337-15-P